DEPARTMENT OF DEFENSE

Department of the Army

Privacy Act of 1974; System of Records

AGENCY: Department of the Army, DoD.

ACTION: Notice to amend a system of records.

SUMMARY: The Department of the Army is proposing to amend a system of records notice in its existing inventory of records systems subject to the Privacy Act of 1974, (5 U.S.C. 552a), as amended.

DATES: This proposed action will be effective without further notice on January 27, 2005, unless comments are received which result in a contrary determination.

ADDRESSES: Department of the Army, Freedom of Information/Privacy Office Division, U.S. Army Records Management and Declassification Agency, ATTN: AHRC-PDD-FPZ, 7701 Telegraph Road, Casey Building, Suite 144, Alexandria, VA 22325-3905.

FOR FURTHER INFORMATION CONTACT: Ms. Janice Thornton at (703) 428-6597.

SUPPLEMENTARY INFORMATION: The Department of the Army systems of records notices subject to the Privacy Act of 1974, (5 U.S.C. 552a), as amended, have been published in the Federal Register and are available from the address above.

The specific changes to the records systems being amended are set forth below by the notices, as amended, published in their entirety. The proposed amendments are not within the purview of subsection (r) of the Privacy Act of 1974, (5 U.S.C. 552a), as amended, which requires the submission of a new or altered system report.

Dated: December 20, 2004.
Jeannette Owings-Ballard,
OSD Federal Register Liaison Officer, Department of Defense.

A0385-10/40 ASO

System name:

Army Safety Management Information System (ASMIS) (May 15, 2002, 67 FR 34684).

Changes:

* * * * *

System location:

Add to first paragraph “and U.S. Army Center for Health Promotion and Preventive Medicine, 5158 Blackhawk Road, Aberdeen Proving Ground, MD 21010-5403.”

* * * * *

Authority for maintenance of the system:

Add to entry “DoD Instruction 6055.1, DoD Safety and Occupational Health Program”.

* * * * *

System manager(s) and address:

Add to entry “Commander, U.S. Army Center for Health Promotion and Preventive Medicine, 5158 Blackhawk Road, Aberdeen Proving Ground, MD 21010-5403.”

* * * * *

A0385-10/40 ASO

System name:

Army Safety Management Information System (ASMIS).

System location:

U.S. Army Safety Center, 4905 5th Avenue, Fort Rucker, AL 36362-5363, and the U.S. Army Center for Health Promotion and Preventive Medicine, 5158 Blackhawk Road, Aberdeen Proving Ground, MD 21010-5403.

U.S. Army Corps of Engineers: Chief, Safety and Occupational Health Office, Headquarters, U.S. Army Corps of Engineers, 441 G Street, NW., Washington, DC 20314—1000, and all U.S. Army Corps of Engineers (USACE) Safety and Occupational Health Offices. Official mailing addresses are published as an Appendix to the Army's compilation of systems of records notices.

Categories of individuals covered by the system:

Individuals (includes contractors, volunteer personnel, and members of the public) involved in accidents incident to Army and U.S. Army Corps of Engineers operations and recreational facilities.

Categories of records in the system:

Records include name of injured individual, Social Security Number, job title, date of injury, location of accident, activity at time of injury, type of injury, board findings, recommendations, witness statements, wreckage distribution diagrams, maintenance and material data, and other personal and accident related and environmental information.

Authority for maintenance of the system:

10 U.S.C. 3013, Secretary of the Army; 5 U.S.C. 7902, Safety Programs; Public Law 91-596, Occupational Safety and Health Act of 1970; DoD Instruction 6055.1, DoD Safety and Occupational Health Program; Army Regulations 385-10, Army Safety Program; Army Regulation 385-40, Accident Reporting and Records; and E.O. 9397 (SSN).

Purpose(s):

Information will be used to monitor and facilitate the U.S. Army's and the USACE Safety and Occupational Health Offices' safety programs; to analyze accident experience and exposure information; and to support the Army's accident prevention efforts.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

To the Department of Labor, the Federal Aviation Agency, the National Transportation Safety Board, and to Federal, State, and local agencies, and applicable civilian organizations, such as the National Safety Council, for use in a combined effort of accident prevention.

In some cases, data must also be disclosed to an employee's representative under the provisions of 29 CFR 1960.29.

The DoD “Blanket Routine Uses” set forth at the beginning of the Army's compilation of systems of records notices also apply to this system.

Policies and practices for storing, retrieving, accessing, retaining, and disposing of records in the system:

Storage:

Magnetic tapes, electronic storage media and printouts.

Retrievability:

Information is retrieved by individual's name and Social Security Number.

Safeguards:

Paper records are maintained in locked file cabinets. Information is accessible only by authorized personnel with appropriate clearance/access in the performance of their duties. Remote terminal accessible only by authorized personnel.

At USACE and USACHPPM the computer stored records are secured behind security doors, accessible only by authorized personnel provided password access.

Retention and disposal:

Accident and incident case records and aviation accident and incident case records maintain for 5 years then destroy, except for: U.S. Army Safety Center and U.S. Army Corps of Engineers maintain for 30 years in current file area then destroy; Office of Corps of Engineers records created prior to 1 January 1982 maintain for 30 years then destroy. Environmental restoration reports are maintained for 50 years then destroyed (5 years in current file area then transferred to records holding area). Reports of artillery mis-firings or accidents and harmful chemical, biological and radiological exposures accumulated in combat or combat support elements are permanent.

System manager(s) and address:

Commander, U.S. Army Safety Center, 4905 5th Avenue, Fort Rucker, AL 36362-5363.

Commander, U.S. Army Center for Health Promotion and Preventive Medicine, 5158 Blackhawk Road, Aberdeen Proving Ground, MD 21010-5403.

Chief, Safety and Occupational Health Office, Headquarters, U.S. Army Corps of Engineers, 441 G Street, NW., Washington, DC 20314-1000.

Notification procedure:

Individuals seeking to determine whether information about themselves is contained in this system should address written inquiries to the appropriate system manager.

Individual must furnish his/her full name, Social Security Number, current address and telephone number, when and where the accident occurred, type of equipment involved in the accident, and signature.

Record access procedures:

Individuals seeking access to information about themselves contained in this system should address written inquiries to the appropriate system manager.

Individual must furnish his/her full name, Social Security Number, current address and telephone number, when and where the accident occurred, type of equipment involved in the accident, and signature.

Contesting record procedures:

The Army's rules for accessing records, and for contesting contents and appealing initial agency determinations are contained in Army Regulation 340-21; 32 CFR part 505; or may be obtained from the system manager.

Record source categories:

Records and reports of accident, injury, fire, morbidity, law enforcement, traffic accident investigations, vehicle accident reports, and marine accident/casualty reports, individual sick clips, and military aviation records/reports.

Exemptions claimed for the system:

None.

[FR Doc. 04-28267 Filed 12-27-04; 8:45 am]

BILLING CODE 5001-06-M